DEPARTMENT OF EDUCATION

Request for Comments on Review of Accrediting Agencies

AGENCY: Accreditation Group, Office of Postsecondary Education, U.S. Department of Education.

ACTION: Notice.

SUMMARY: This notice provides information to members of the public on submitting written comments for accrediting agencies currently undergoing review for purposes of recognition by the U.S. Secretary of Education. This solicitation of third-party comments concerning the performance of accrediting agencies under review by the Secretary is required by the Higher Education Act (HEA) of 1965, as amended.

FOR FURTHER INFORMATION CONTACT: Herman Bounds, Director, Accreditation Group, Office of Postsecondary Education, U.S. Department of Education, 400 Maryland Avenue SW., Room 6C115, Washington, DC 20202, telephone: (202) 453-7615, or email: herman.bounds@ed.gov.

SUPPLEMENTARY INFORMATION:

Agencies under Review and Evaluation: Below is a list of agencies currently undergoing review and evaluation by the Accreditation Group, including their current and requested scopes of recognition:

Applications for Renewal of Recognition

1. American Occupational Therapy Association, Accreditation Council for Occupational Therapy Education, Scope of Recognition: The accreditation of occupational therapy educational programs offering the professional master's degree, combined baccalaureate/master's degree, and occupational therapy doctorate (OTD) degree; the accreditation of occupational therapy assistant programs offering the associate degree or a certificate; and the accreditation of these programs offered via distance education.

2. Accreditation Council for Pharmacy Education, Scope of Recognition: The accreditation and preaccreditation, within the United States, of professional degree programs in pharmacy leading to the degree of Doctor of Pharmacy, including those programs offered via distance education.

3. Association for Clinical Pastoral Education, Inc., Scope of Recognition: The accreditation of both clinical pastoral education (CPE) centers and Supervisory CPE programs located within the United States and territories.

4. Association for Biblical Higher Education, Scope of Recognition: The accreditation and preaccreditation (“Candidate for Accreditation”), at the undergraduate level, of institutions of biblical higher education in the United States offering both campus-based and distance education instructional programs.

5. American Dental Association, Commission on Dental Accreditation, Scope of Recognition: The accreditation of predoctoral dental education programs (leading to the D.D.S. or D.M.D. degree), advanced dental education programs, and allied dental education programs that are fully operational or have attained “Initial Accreditation” status, including programs offered via distance education.

6. Commission on Collegiate Nursing Education, Scope of Recognition: The accreditation of nursing education programs in the United States, at the baccalaureate, master's and doctoral degree levels, including programs offering distance education.

7. Distance Education Accrediting Commission, Scope of Recognition: The accreditation of postsecondary institutions in the United States that offer degree and/or non-degree programs primarily by the distance or correspondence education method up to and including the professional doctoral degree, including those institutions that are specifically certified by the agency as accredited for Title IV purposes.

8. Middle States Commission on Secondary Schools, Scope of Recognition: The accreditation of institutions with postsecondary, non-degree granting career and technology programs in Delaware, Maryland, New Jersey, New York, Pennsylvania, the Commonwealth of Puerto Rico, the District of Columbia, and the U.S. Virgin Islands, to include the accreditation of postsecondary, non-degree granting institutions that offer all or part of their educational programs via distance education modalities.

9. Southern Association of Colleges and Schools Commission on Colleges (SACSCOC), Scope of Recognition: The accreditation and preaccreditation (“Candidate for Accreditation”) of degree-granting institutions of higher education in Alabama, Florida, Georgia, Kentucky, Louisiana, Mississippi, North Carolina, South Carolina, Tennessee, Texas, and Virginia, including the accreditation of programs offered via distance and correspondence education within these institutions. This recognition extends to the SACSCOC Board of Trustees and the Appeals Committee of the College Delegate Assembly on cases of initial candidacy or initial accreditation and for continued accreditation or candidacy.

Application for an Expansion of Scope

Commission on Collegiate Nursing Education, Scope of Recognition: The accreditation of nursing education programs in the United States, at the baccalaureate, master's and doctoral degree levels, including programs offering distance education. Requested Scope: The accreditation of nursing education programs in the United States, at the baccalaureate, master's, doctoral, and certificate levels, including programs offering distance education.

Application for Granting of Academic (Master's and Doctoral) Degrees by Federal Agencies and Institutions

1. Air University (Air Command and Staff College): Air University seeks to expand its educational offerings by offering a Master's degree in Airpower Strategy and Technology Integration.

2. Army's Command and General Staff College: Notification of name change for two degree programs currently approved and offered by the College. The proposal would change the MMAS (Theater Operations) to Master of Arts in Military Operations and the MMAS (Strategic Operations) to Master of Arts in Strategic Studies.

Submission of Written Comments Regarding a Specific Accrediting Agency or State Approval Agency Under Review

Written comments about the recognition of a specific accrediting or State agency must be received by March 12, 2017, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to issues identified in the compliance report and the criteria for recognition cited in the senior Department official's letter that requested the report, or in the Secretary's appeal decision, if any. Comments about the renewal of an agency's recognition based on a review of the agency's petition must relate to its compliance with the Criteria for the Recognition of Accrediting Agencies, or the Criteria and Procedures for Recognition of State Agencies for Approval of Nurse Education as appropriate, which are available at http://www.ed.gov/admins/finaid/accred/index.html.

Only material submitted by the deadline to the email address listed in this notice, and in accordance with these instructions, become part of the official record concerning agencies scheduled for review and are considered by the Department and NACIQI in their deliberations.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Gail McLarnon,
Acting Deputy Assistant Secretary for Planning, Policy, and Innovation.

[FR Doc. 2017-02867 Filed 2-10-17; 8:45 am]

BILLING CODE P